DEPARTMENT OF ENERGY

Bonneville Power Administration

Schultz-Hanford Area Transmission Line Project

AGENCY: Bonneville Power Administration (BPA), Department of Energy (DOE).

ACTION: Notice of intent to prepare an environmental impact statement (EIS) and notice of floodplain and wetlands involvement.

SUMMARY: This notice announces BPA's intention to prepare an EIS on the construction, operation, and maintenance of a 59-mile-long 500-kilovolt (kV) single-circuit transmission line in Kittitas, Yakima, Grant, and/or Benton Counties, State of Washington. In accordance with DOE regulations for compliance with floodplain and wetlands environmental review requirements, BPA will prepare a floodplain and wetlands assessment and will perform this proposed action in a manner so as to avoid or minimize potential harm to or within the affected floodplain and wetlands. The assessment and a floodplain statement of findings will be included in the EIS being prepared for the proposed project in accordance with the National Environmental Policy Act.

DATES: BPA has established a 30-day scoping period. Written comments are due to the address below no later than January 25, 2001. Comments may also be made at EIS scoping meetings to be held on January 9, 10, and 11, 2001.

ADDRESSES: BPA invites comments and suggestions on the proposed scope of the Draft EIS. To comment, phone toll-free 1-800-622-4519; send an e-mail to the BPA Internet address comment@bpa.gov; or mail comments to Communications, Bonneville Power Administration—KC-7, P.O. Box 12999, Portland, Oregon, 97212. To be placed on the project mail list, call 1-800-622-4520.

Three EIS scoping meetings will be held: (1) Tuesday, January 9, 2001, 4 p.m. to 8 p.m., at the Sage Brush Senior Center, 442 Desert Aire Drive, Desert Aire, Washington; (2) Wednesday, January 10, 2001, 4 p.m. to 8 p.m., at the Yakima County Courthouse, Room 420, Yakima, Washington; and (3) Thursday, January 11, 2001, 4 p.m. to 8 p.m., at the Hal Holmes Community Center, 201 North Ruby Street, Ellensburg, Washington. At the informal meetings, several members of the project team will be available to answer questions and accept oral and written comments. Scoping will help BPA ensure that a full range of issues related to this proposal is addressed in the EIS, and also will identify significant or potentially significant impacts that may result from the proposed project.

FOR FURTHER INFORMATION CONTACT: Lou Driessen, Project Manager, Bonneville Power Administration—TNP-3, P.O. Box 3621, Portland, Oregon, 97208-3621; telephone 503-230-5525; or e-mail lcdriessen@bpa.gov. You may also contact Nancy Wittpenn, Environmental Project Manager, Bonneville Power Administration—KEC-4, P.O. Box 3621, Portland, Oregon, 97208-3621; telephone 503-230-3297; fax 503-230-5699; or e-mail nawittpenn@bpa.gov.

SUPPLEMENTARY INFORMATION: The proposed 59-mile-long 500-kV single-circuit transmission line would be constructed from the existing Schultz Substation near Ellensburg, Washington, to the existing Hanford or Ashe Substation on the Hanford Nuclear Reservation or to a new substation west of the reservation, near Benton Rural Electric Association's Blackrock Substation. The new line is necessary to relieve constraints on several transmission paths (lines) that move electricity across Washington. The new line would also provide more operational flexibility and meet market needs by increasing transmission capacity for additional interstate transfer of electricity. BPA has identified several possible alternative routes for the new line. The new routes have the potential to cross private land, the Yakima Firing Center, the Hanford Nuclear Reservation, the Columbia River, and the Saddle Mountain Wildlife Refuge. BPA is in the process of contacting the U.S. Department of the Army, the U.S. Bureau of Land Management, the U.S. Bureau of Reclamation, and the U.S. Fish and Wildlife Service to determine whether they would like to be cooperating agencies in the EIS process.

This action may involve floodplain and wetlands located in Kittitas, Yakima, Grant, and Benton Counties, State of Washington. When completed, the Draft EIS will be circulated for review and comment, and BPA will hold several public comment meetings for the Draft EIS. BPA will consider and respond in the Final EIS to comments received on the Draft EIS.

Maps and further information are available from BPA at the address above.

Issued in Portland, Oregon, on December 1, 2000.
Steven G. Hickok,
Acting Administrator and Chief Executive Officer.

[FR Doc. 00-31443 Filed 12-8-00; 8:45 am]

BILLING CODE 6450-01-P